DEPARTMENT OF DEFENSE

Department of the Army, Corps of Engineers

Notice of Availability of a Draft Supplemental Environmental Impact Statement (SEIS), for #200000380(IP-DEB), Phipps Ocean Park Beach Restoration Project, Town of Palm Beach, Palm Beach County, FL

AGENCY: Department of the Army, U.S. Army Corps of Engineers, DoD.

ACTION: Notice of availability.

SUMMARY: In accordance with the requirements of National Environmental Policy Act (NEPA), the U.S. Army Corps of Engineers (USACE or Corps) Jacksonville District, announces the availability of a Regulatory Program SEIS for the Phipps Ocean Park Beach Restoration Project. The Town of Palm Beach, Florida is seeking Corps regulatory authorization for the proposed project pursuant to section 404 of the Clean Water Act and section 10 of the Rivers and Harbors Act of 1899 (33 U.S.C. 403). In accordance with 40 CFR 1506.5 and Appendix B, 33 CFR part 325, the applicant has prepared the Draft SEIS on the requested permit action under the direct supervision of the Corps pursuant to a “third party contract.”

The general environmental impacts of beach restoration and erosion control activities on the Southeast Atlantic Coast of Florida were previously evaluated in the “Coast of Florida, Erosion and Storm Effects Study—Region III, with Final Environmental Impact Statement, U.S. Army Corps of Engineers, Jacksonville District”, October 1996. The applicant's proposed project is located within a segment of the Region III area evaluated in the Coast of Florida FEIS and the Phipps Ocean Park Draft SEIS is a supplement to the Coast of Florida FEIS. The applicant's proposed is consistent with the Town's “Comprehensive Coastal Management Plan Update—Palm Beach Island, Florida” (June 1998).

As required by NEPA, the Draft SEIS describes the applicant's preferred alternative and other alternatives evaluated to provide shore protection for Phipps Ocean Park within the Town of Palm Beach, Florida. The applicant's preferred alternative is intended to: (1) Mitigate the long-term erosion impacts of Lake Worth Inlet and armored coastline north of the Project area; (2) provide and maintain storm protection to upland improvements; (3) restore and maintain the beach for public recreational use; and (4) restore and maintain the beach for marine turtle nesting habitat.

The applicant's preferred alternative includes placement of approximately 1.5 million cubic yards of fill over approximately 1.9 miles of beach, between DEP Monuments R-116 and R-126 and installation of 3.1 acres of hardbottom reef to mitigate for unavoidable impacts to nearshore hardbottom. Sand compatible with the existing beach has been identified and will be obtained from borrow areas located approximately 3,500 feet offshore and between 1.5 and 2.6 miles south of the fill area. Geotechnical analysis of the borrow area indicates that the material is suitable for the restoration of Phipps Ocean Park beach. The proposed borrow areas have been designed with buffer zones to avoid impact to hardbottom communities in the vicinity of the borrow areas. Mitigation of hardbottom resources within the fill area is required and has been incorporated into the plan.

The Draft SEIS also identifies and evaluates the potential direct, indirect, and cumulative environmental consequences of the applicant's preferred alternative, including potential impacts on Essential Fish Habitat, hardbottom resources and other specific issues identified in the scoping process. Cooperating agencies for the proposed project are the Florida Department of Environmental Protection, U.S. Fish and Wildlife Service, National Marine Fisheries Service, and the U.S. Environmental Protection Agency.

DATES: The public comment period on the Draft SEIS shall commence upon publication of the Notice of Availability in the Federal Register. Written comments must be received at the address listed below no later than 5 p.m. EST, 45 calendars days from the date of publication. A public meeting regarding the Draft SEIS will be held on September 12, 2002 (See SUPPLEMENTARY INFORMATION.

ADDRESSES: Copies of the Draft SEIS document may be obtained by contacting Lois Edwards, SEIS Public Involvement Coordinator/Third Party Contractor, Coastal Technology Corp., 3625 20th Street, Vero Beach Florida, 32960, telephone (888) 562-8580; facsimile (772) 562-8432 or by e-mail to ledwards@coastaltechcorp.com. This document may also be found on the Corps' Web site by accessing the following address: www.saj.usace.army.mil/permit/hot_topics/PhippsEIS/phippsindex.htm. Written comments and questions concerning this proposal must be submitted to Dale Beter, Phipps SEIS Project Manager, USACE, Regulatory Branch, 400 North Congress Avenue, Suite 130, West Palm Beach, Florida 33401; telephone (561) 683-1814, facsimile (561) 683-4941, or e-mail at Dale.E.Beter@saj02.usace.army.mil. Requests to be placed on the mailing lists should be sent to Mrs. Edwards at the Vero Beach address.

FOR FURTHER INFORMATION CONTACT: Dale Beter at the above address or Peter A. Ravella, SEIS Project Manager/Third Party Contractor, Coastal Technology Corp., 2306 Lake Austin Blvd., Austin, Texas 78703; telephone (512) 236-9494; facsimile (800) 321-9673, or e-mail at pravella@coastaltechcorp.com.

SUPPLEMENTARY INFORMATION: The Draft SEIS examines potential impacts on Essential Fish Habitat (EFH) and also includes a comprehensive examination of potential cumulative impacts of the project and other projects from Lake Worth Inlet to South Lake Worth Inlet. In accordance with the NEPA, the Draft SEIS evaluates reasonable alternatives for the USACE's decision-making process, including the “no action” alternative as a baseline for gauging potential impacts.

The Florida Department of Environmental Protection (FDEP) has designated all of the Project area from R-116 to R-126 as an area of “critical erosion.” This designation is based on (a) the erosion attributable to the influence of Lake Worth Inlet and the adjacent armored shoreline and (b) the existing headland features surrounding the Project area.

Shoreline conditions and structures updrift of the Project area exacerbate erosion and, if action is not taken, will lead to significant future erosion of the Project area and the shoreline further south. Net longshore sand transport in the region is to the south. Construction of the Inlet and Inlet jetties interrupts the longshore flow of sand and sand starves the region south of the Inlet leading to the construction of seawalls, groins, and eventually a rock revetment constructed by the Florida Department of Transportation (FDOT) north of Sloan's Curve in 1987. The revetment has cut-off the sand supply from the dune landward of the revetment. These conditions are expected to continue to contribute to the erosion within the Project area in the future.

The three miles of shoreline immediately north of Sloan's Curve are fronted by numerous armoring structures including rock revetments, seawalls, and groins. The existing groins north of Phipps Ocean Park deter southerly longshore transport to Phipps Ocean Park and the Project area. The Mid-Town Beach Restoration Project (unrelated to the project for which the applicant seeks authorization) is located to the north of this three-mile segment; the groins and armoring have impeded the southerly migration of the Mid-Town sand. In combination with the effects of Lake Worth Inlet, armoring structures have caused a longshore transport and sediment deficit to the Project area, resulting in erosion, loss of the recreational beach, increase in the storm damage risk to upland property, and loss of sea turtle nesting habitat.

Copies of the Draft SEIS are also available for inspection at the locations identified below:

(1) Town of Palm Beach Clerk's Office, Town Hall, 360 South County Road, Palm Beach, FL 33480.

(2) Town of Palm Beach Public Works Department, 951 Old Okeechobee Road, West Palm Beach, FL 33401.

(3) Town of Palm Beach Fire Rescue Station 3, 2185 South Ocean Blvd., Palm Beach, FL 33480.

(4) USACE West Palm Beach Regulatory Office, 400 North Congress Avenue, Suite 130, West Palm Beach, FL 33401.

(5) Palm Beach County Government Center, Front Lobby Information Desk, 215 North Olive Avenue, West Palm Beach, FL 33401.

After the public comment period ends, USACE will consider all comments received, revise the Draft SEIS as appropriate, and issue a Final Supplemental Environmental Impact Statement. As part of the public involvement process, notice is hereby given by the USACE-Jacksonville District of a public meeting to be held at Town Hall Council Chambers, 360 S. County Road, Town of Palm Beach, Florida, beginning at 7 p.m. on September 12, 2002. The public meeting will allow participants the opportunity to comment on the Draft SEIS.

John A. Hall,
Alternate Federal Register Liaison Officer.

[FR Doc. 02-21481 Filed 8-22-02; 8:45 am]

BILLING CODE 3710-AJ-M